DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: The Evaluation of Networking Suicide Prevention Hotlines Follow-Up Assessment—NEW

The Substance Abuse and Mental Health Services Administration's (SAMHSA), Center for Mental Health Services has funded a National Suicide Prevention Lifeline Network, consisting of a single toll-free telephone number that routes calls from anywhere in the United States to a network of local crisis centers. In turn, the local centers link callers to local emergency, mental health, and social service resources.

With input from multiple experts in the field of suicide prevention, the project created a telephone interview survey to collect data on follow-up assessments of consenting individuals calling the Lifeline network. The “Evaluation of Networking Suicide Prevention Hotlines Follow-Up Assessment” will provide an empirical evaluation of crisis hotline services, necessary to optimize public health efforts to prevent suicidal behavior.

Three hundred and sixty callers will be recruited from seven of the approximately 100 crisis hotline centers that participate in the Lifeline network. Trained crisis workers will conduct the follow-up telephone assessment (“Crisis Hotline Telephone Followup Assessment”) within one month of the initial call. Assessments will be conducted only one time for each client. Strict measures to ensure confidentiality will be followed.

The resulting data will measure (1) suicide risk status at the time of and since the call, (2) depressive symptoms at follow-up, (3) service utilization since the call, (4) barriers to service access, and (5) the client's perception of the efficacy of the hotline intervention. The estimated annual response burden to collect this information is as follows:

Instrument | Number of response | Responses/respondent | Burden/response (hours) | Annual burden (hours)
Crisis Hotline Telephone Followup Assessment | 360 | 1 | .58 | 209

Send comments to Summer King, SAMHSA Reports Clearance Officer, Room 7-1044, 1 Choke Cherry Road, Rockville, MD 20850. Written comments should be received by June 17, 2005.

Dated: April 12, 2005.
Anna Marsh,
Executive Officer, SAMHSA.

[FR Doc. 05-7677 Filed 4-17-05; 8:45 am]

BILLING CODE 4162-20-P